ENVIRONMENTAL PROTECTION AGENCY

[FRL-7647-9]

National Environmental Justice Advisory Council's (NEJAC) Puerto Rico Subcommittee; Notification of Public Comment Meeting (All Times Are Eastern Standard Time)

The Environmental Protection Agency Region II will sponsor a National Environmental Justice Advisory Council (NEJAC) Puerto Rico Subcommittee Public Meeting on Cumulative Risks and Impacts on May 7, 2004, in Ponce, Puerto Rico. Specifically, the public meeting will be held at the Inter American University—Ponce Campus, Room 123 Academic Building, located on Highway #1, Sabanetas Ward, Mercedita, Ponce. The meeting will start at 6:30 p.m. with a short presentation by the PR Subcommittee Chair on the draft report prepared by a work group of the NEJAC entitled Ensuring Risk Reduction in Communities with Multiple Stressors: Environmental Justice and Cumulative Impacts. The presentation will be followed by a public comment period pertaining to environmental justice issues associated to cumulative risks and cumulative impacts on the island. The public meeting is scheduled to end at 8:30 p.m. A broad range of stakeholders and constituent groups from all of Puerto Rico are invited to participate to help develop general recommendations to address environmental justice issues related to cumulative risks and impacts on the island of Puerto Rico. A report and recommendations from the meeting will be prepared by the Puerto Rico Subcommittee and submitted to NEJAC for review and consideration in their final deliberations of the draft report. The NEJAC will then provide its comments to the EPA Administrator.

Members of the public who wish to make a brief oral presentation should pre-register by contacting Tere Rodríguez, Designated Federal Official, at (787) 977-5864 by May 4, 2004, to have time reserved on the agenda. Individuals or groups making oral presentations will be limited to a total time of five minutes. Written comments of no more than 10 pages should be received by May 4, 2004. Send your written comments to: Tere Rodríguez, Designated Federal Official (DFO) of the Puerto Rico Subcommittee, Caribbean Environmental Protection Division, U.S. Environmental Protection Agency, Centro Europa Building, Suite 417, 1492 Ponce De Leon Avenue, Stop 22, San Juan, PR 00907-4127. After May 4, you should hand deliver 15 copies of your written comments to the DFO at the meeting. For more information please call (787) 977-5864.

Tere Rodríguez,
Designated Federal Official, Puerto Rico Subcommittee, National Environmental Justice Advisory Council.

[FR Doc. 04-8577 Filed 4-14-04; 8:45 am]

BILLING CODE 6560-50-P